COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be furnished by nonprofit agencies employing persons who are blind or have other severe disabilities, and deletes products and services previously furnished by such agencies.

DATES: Comments must be received on or before: December 22, 2019.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Custodial Service

Mandatory for: US Air Force, Hurlburt Field, FL

Mandatory Source of Supply: Brevard Achievement Center, Inc. Rockledge, FL

Contracting Activity: FA4417 1 SOCONS LGC

Service Type: Operations and Maintenance Services

Mandatory for: U.S. Department of Health & Human Services, Hubert H. Humphrey Building, Washington, DC

Mandatory Source of Supply: Melwood Horticultural Training Center, Inc., Upper Marlboro, MD

Contracting Activity: HHS, PROGRAM SUPPORT CENTER ACQ MGMT SVC

Service Type: Hospitality Services

Mandatory for: Customs and Border Protection, Advanced Training Center (ATC) Lodge and Conference Center, (ATC Lodge only), Harpers Ferry, WV

Mandatory Source of Supply: Professional Contract Services, Inc., Austin, TX

Contracting Activity: U.S. CUSTOMS AND BORDER PROTECTION, MISSION SUPPORT CTR DIV

Service Type: Warehouse and Distribution Services

Mandatory for: US Department of Justice, Office of Community Oriented Policing Services, Washington, DC

Mandatory Source of Supply: Melwood Horticultural Training Center, Inc., Upper Marlboro, MD

Contracting Activity: OFFICES, BOARDS AND DIVISIONS, U.S. DEPT OF JUSTICE

Service Type: Administrative Support Service

Mandatory for: Defense Threat Reduction Agency (DTRA), DTRA Headquarters, Fort Belvoir, VA

Mandatory Source of Supply: Melwood Horticultural Training Center, Inc., Upper Marlboro, MD

Contracting Activity: DEFENSE THREAT REDUCTION AGENCY (DTRA), DEFENSE THREAT REDUCTION AGENCY

Deletions

The following products and services are proposed for deletion from the Procurement List:

Products

NSN(s)—Product Name(s):

7510-00-NIB-1783—Portfolio Pad Holder, with Pad, Custom Logo & Color, 9″ x 12″

Mandatory Source of Supply: Alphapointe, Kansas City, MO

Contracting Activity: GSA/FAS ADMIN SVCS ACQUISITION BR(2, NEW YORK, NY

NSN(s)—Product Name(s):

2540-00-T27-8865—Chock Block

2540-00-T27-9043—Chock Block

Mandatory Source of Supply: NewView Oklahoma, Inc., Oklahoma City, OK

Contracting Activity: DLA SUPPORT SERVICES—DSS, FORT BELVOIR, VA

NSN(s)—Product Name(s):

7210-01-245-4393—Cover, Mattress

Mandatory Source of Supply: Winston-Salem Industries for the Blind, Inc., Winston-Salem, NC

Contracting Activity: DLA TROOP SUPPORT, PHILADELPHIA, PA

Services

Service Type: Administrative Services

Mandatory for: Robert C. Byrd Federal Building: United States Courthouse, Charleston, WV

Mandatory Source of Supply: Goodwill Industries of Kanawha Valley, Charleston, WV

Contracting Activity: GENERAL SERVICES ADMINISTRATION, FPDS AGENCY COORDINATOR

Service Type: Dining Facility Attendant Services

Mandatory for: 29th Engineering Battalion: Building 503B, Fort Shafter, HI

Mandatory for: 65th Engineering Battalion: Building 1492, Schofield Barracks, HI

Mandatory Source of Supply: Opportunities and Resources, Inc., Wahiawa, HI

Contracting Activity: DEPT OF THE ARMY, W40M RHCO-ATLANTIC USAHCA

Service Type: Janitorial/Custodial

Mandatory for: U.S. Federal Building, Courthouse and Post Office: Main and Poplar Streets, Greenville, MS

Contracting Activity: GENERAL SERVICES ADMINISTRATION, FPDS AGENCY COORDINATOR

Service Type: Grounds Maintenance Service

Mandatory for: U.S. Coast Guard Facility, 9640 Clinton Drive, Houston, TX

Mandatory Source of Supply: On Our Own Services, Inc., Houston, TX

Contracting Activity: U.S. COAST GUARD, BASE NEW ORLEANS

Service Type: Mailing Services

Mandatory for: Centers for Disease Control and Prevention, National Center for Infectious Diseases, Atlanta, GA

Mandatory Source of Supply: Nobis Enterprises, Inc., Marietta, GA

Contracting Activity: HEALTH AND HUMAN SERVICES, DEPARTMENT OF, DEPT OF HHS

Service Type: Janitorial/Custodial

Mandatory for: Fort McPherson, GA

Contracting Activity: DEPT OF THE ARMY, W6QM MICC-FDO FT SAM HOUSTON

Amy B. Jensen,
Deputy Director, Business Operations.

[FR Doc. 2019-25393 Filed 11-21-19; 8:45 am]

BILLING CODE 6353-01-P